DEPARTMENT OF ENERGY

Federal Energy Regulatory Commission

Notice of Transfer of License and Soliciting Comments, Motions to Intervene, and Protests

March 16, 2000.

Take notice that the following application has been filed with the Commission and is available for public inspection:

a. Application Type: Transfer of License.

b. Project No.: 2056-018.

c. Date Filed: March 8, 2000.

d. Applicants: Northern States Power Company and Northern Power Corporation.

e. Name and Location of Project: The St. Anthony Falls Hydroelectric Project is on the Mississippi River within the City of Minneapolis in Hennepin County, Minnesota. The project does not occupy Federal or Tribal land.

f. Filed Pursuant to: Federal Power Act, 16 U.S.C. 791(a)-825(r)

g. Applicant Contacts: Mr. Earle O'Donnell, Dewey Ballantine LLP, 1775 Pennsylvania Ave., NW, Washington, DC 20006, (202) 429-2327; Mr. William J. Madden, Jr., Winston & Strawn, 1400 L Street, NW, Washington, DC 20005, (202) 371-5715; Mr. Scott M. Wilensky, Northern States Power Company, 414 Nicollet Mall, 5th Floor, Minneapolis, MN 55401-1993, e-mail: scott.wilensky@nspco.com; Mr. Mark H. Holmberg, Northern States Power Company, (612) 330-6568.

h. FERC Contact: Any questions on this notice should be addressed to James Hunter at (202) 219-2839, or e-mail address: james.hunter@ferc.fed.us.

i. Deadline for filing comments and or motions: April 11, 2000.

All documents (original and eight copies) should be filed with: David P. Boergers, Secretary, Federal Energy Regulatory Commission, 888 First Street, NE, Washington, DC 20426.

Please include the project number (P-2056-018) on any comments or motions filed.

j. Description of Proposal: The applicants propose a transfer of the license for the St. Anthony Falls Project from Northern States Power Company (NSP) to Northern Power Corporation, a wholly-owned subsidiary of NSP. The transfer is being sought in connection with the merger between NSP and New Century Energies, Inc.

The transfer application was filed within five years of the expiration of the license, which is the subject of a pending relicense application for Project No. 2056-016. In Hydroelectric Relicensing Regulations Under the Federal Power Act (54 Fed. Reg. 23,756; FERC Stats. and Regs., Regs. Preambles 1986-1990 30,854 at p. 31,437), the Commission declined to forbid all license transfers during the last five years of an existing license, and instead indicated that it would scrutinize all such transfer requests to determine if the transfer's primary purpose was to give the transferee an advantage in relicensing (id. at p. 31,438 n. 318). Substitution of Northern Power Corporation for NSP as the applicant in the relicensing proceeding will be publicly noticed and handled in a separate proceeding.

k. Locations of the application: A copy of the application is available for inspection and reproduction at the Commission's Public Reference Room, located at 888 First Street, NE, Room 2A, Washington, DC 20426, or by calling (202) 208-1371. The application may be viewed on the web at www.ferc.fed.us/online/rims.htm (Call (202) 208-2222 for assistance). A copy is also available for inspection and reproduction at the addresses in item g above.

l. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, or “MOTION TO INTERVENE”, as applicable, and the Project Number of the particular application to which the filing refers. Any of the above-named documents must be filed by providing the original and the number of copies provided by the Commission's regulations to: The Secretary, Federal Energy Regulatory Commission, 888 First Street, N.E., Washington, D.C. 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 00-7031 Filed 3-21-00; 8:45 am]

BILLING CODE 6717-01-M